DEPARTMENT OF COMMERCE

National Oceanic and Atmospheric Administration

[I.D. 080806D]

Endangered and Threatened Species; Take of Anadromous Fish

AGENCY: National Marine Fisheries Service (NMFS), National Oceanic and Atmospheric Administration (NOAA), Commerce.

ACTION: Receipt of applications to renew and to modify scientific research permits; request for comments.

SUMMARY: Notice is hereby given that NMFS has received applications to modify and renew permits for scientific research from the Southwest Fisheries Science Center (SWFSC) in Santa Cruz, CA (1044) and Dr. Michael Fawcett (M. Fawcett) in Bodega, CA (1045). This document serves to notify the public of the availability of the permit applications for review and comment.

DATES: Written comments on the permit applications must be received no later than 5 p.m. Pacific Standard Time on September 15, 2006.

ADDRESSES: Comments submitted by e-mail must be sent to the following address FRNpermits.SR@noaa.gov. The applications and related documents are available for review by appointment, for permits 1044 Modification 4 and 1045 Modification 1: Protected Resources Division, NMFS, 777 Sonoma Avenue, Room 315, Santa Rosa, CA 95404 (ph: 707-575-6097, fax: 707-578-3435, e-mail: Jeffrey.Jahn@noaa.gov).

FOR FURTHER INFORMATION CONTACT: Jeffrey Jahn at phone number 707-575-6097, or e-mail: Jeffrey.Jahn@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to Federally threatened Southern Oregon/Northern California Coast coho salmon (Oncorhynchus kisutch), endangered Central California Coast coho salmon (O. kisutch), threatened California Coastal Chinook salmon (O. tshawytscha), endangered Sacramento River winter-run Chinook salmon (O. tshawytscha), threatened Central Valley spring-run Chinook salmon (O. tshawytscha), threatened Northern California steelhead (O. mykiss), threatened Central California Coast steelhead (O. mykiss), threatened Central Valley steelhead (O. mykiss), threatened South-Central California Coast steelhead (O. mykiss), and endangered Southern California steelhead (O. mykiss).

Permit Extension and Modification Request Received

SWFSC requests a 5-year extension and modification of permit (1044) for take of Southern Oregon/Northern California Coast coho salmon, Central California Coast coho salmon, California Coastal Chinook salmon, Sacramento River winter-run Chinook salmon, Central Valley spring-run Chinook salmon, Northern California steelhead, Central California Coast steelhead, Central Valley steelhead, South-Central California Coast steelhead, and Southern California steelhead to conduct salmonid population distribution, population abundance, life history, population dynamics, and population genetics research in various streams and estuaries throughout California.

SWFSC requests authorization for an estimated annual non-lethal take of 500 juvenile California Coastal Chinook salmon, 500 juvenile Sacramento River winter-run Chinook salmon, and 500 juvenile Central Valley spring-run Chinook salmon, with no more than 2.5 percent unintentional mortality to result from capture (by electrofishing, seine, trap, or hook and line), handling, and release of fish. SWFSC also requests authorization for an estimated annual non-lethal take of 3,500 juvenile Southern Oregon/Northern California Coast coho salmon and 2,000 juvenile Central California Coast coho salmon, with no more than 2.5 percent unintentional mortality to result from capture (by electrofishing, seine, trap, or hook and line), handling, sampling (by collection of scales, fin clips, or stomach contents), marking (using fin clips, passive integrated transponder (PIT) tags, visible implant elastomer (VIE) tags, or visible implant alpha (VI alpha) tags), and release of fish.

SWFSC also requests authorization for an estimated annual non-lethal take of 25,000 juvenile Northern California steelhead, 20,000 juvenile Central California Coast steelhead, 5,000 juvenile Central Valley steelhead, 35,000 juvenile South-Central California Coast steelhead, and 3,000 juvenile Southern California steelhead, with no more than 5 percent unintentional mortality to result from capture (by electrofishing, seine, trap, or hook and line), handling, sampling (by collection of scales, fin clips, or stomach contents), marking (using fin clips, PIT tags, VIE tags, or VI alpha tags), and release of fish.

SWFSC also requests authorization for an estimated annual non-lethal take of 1,000 adult Southern Oregon/Northern California Coast coho salmon and 250 adult Northern California steelhead with no more than 1 percent unintentional mortality to result from capture (by seine, trap, or hook and line), handling, sampling (by collection of scales or fin clips), marking (using fin clips, PIT tags, or external anchor tags), and release of fish.

In addition, SWFSC requests take of previously dead adult carcasses of Southern Oregon/Northern California Coast coho salmon, Central California Coast coho salmon, California Coastal Chinook salmon, Sacramento River winter-run Chinook salmon, Central Valley spring-run Chinook salmon, and Northern California steelhead to conduct salmonid population distribution, population abundance, life history, population dynamics, and population genetics research in various streams throughout California. SWFSC requests authorization to handle, tissue sample, and release an estimated 2,000 Southern Oregon/Northern California Coast coho salmon adult carcasses, 250 Central California Coast coho salmon adult carcasses, 250 California Coastal Chinook salmon adult carcasses, 500 Sacramento River winter-run Chinook salmon adult carcasses, 1,000 Central Valley spring-run Chinook salmon adult carcasses, and 250 Northern California steelhead adult carcasses annually. In addition, SWFSC requests intentional lethal take of Northern California steelhead, Central California Coast steelhead, Central Valley steelhead, and South-Central California Coast steelhead to conduct salmonid life history, population dynamics, and population genetics research in various streams, estuaries, and coastal waters of California. SWFSC requests authorization for an estimated annual lethal take of 1,000 juvenile Northern California steelhead, 1,000 juvenile Central California Coast steelhead, 1,000 juvenile Central Valley steelhead, 400 adult Central Valley steelhead, 1,000 juvenile South-Central California Coast steelhead, and 100 adult South-Central California Coast steelhead to be captured (by electrofishing, seine, trap, or hook and line), handled, and sacrificed for collection of various tissues.

Renewal and Modification Request Received

M. Fawcett requests to renew and modify a 5-year permit (1045) for take of juvenile Central California Coast coho salmon, California Coastal Chinook salmon, and Central California Coast steelhead to conduct fish population monitoring in the Russian River watershed (including Green Valley Creek, Mark West Creek, Santa Rosa Creek, Maacama Creek, Sausal Creek, Gird Creek, and Miller Creek) in Sonoma County, California. M. Fawcett requests authorization for an estimated annual non-lethal take of 150 juvenile Central California Coast coho salmon, 50 juvenile California Coastal Chinook salmon, and 4,900 juvenile Central California Coast steelhead, with no more than 1 percent unintentional mortality to result from capture (by seine), handling, and release of fish. M. Fawcett also requests authorization for an estimated annual non-lethal take of 100 juvenile Central California Coast coho salmon and 300 juvenile Central California Coast steelhead, with no more than 1 percent unintentional mortality to result from capture (by seine), handling, fin clipping, and release of fish.

M. Fawcett also requests take of juvenile Central California Coast coho salmon, California Coastal Chinook salmon, and Central California Coast steelhead to conduct fish population monitoring in the estuary and watershed of Salmon Creek in Sonoma County, California. M. Fawcett requests authorization for an estimated annual non-lethal take of 25 juvenile Central California Coast coho salmon, 50 juvenile California Coastal Chinook salmon, and 900 juvenile Central California Coast steelhead, with no more than 1 percent unintentional mortality to result from capture (by seine), handling, and release of fish. M. Fawcett also requests authorization for an estimated annual non-lethal take of 50 juvenile Central California Coast coho salmon and 100 juvenile Central California Coast steelhead, with no more than 1 percent unintentional mortality to result from capture (by seine), handling, fin clipping, and release of fish.

In addition, M. Fawcett requests take of juvenile Northern California steelhead and Central California Coast steelhead to conduct fish population and genetics monitoring in numerous small coastal streams between Gualala River and Estero Americano in Sonoma County, California. M. Fawcett requests authorization for an estimated annual non-lethal take of 50 juvenile Northern California steelhead and 25 juvenile Central California Coast steelhead, with no more than 1 percent unintentional mortality to result from capture (by seine), handling, and release of fish. M. Fawcett also requests authorization for an estimated annual non-lethal take of 200 juvenile Northern California steelhead and 75 juvenile Central California Coast steelhead, with no more than 1 percent unintentional mortality to result from capture (by seine), handling, fin clipping, and release of fish.

Dated: August 11, 2006.
Angela Somma,
Chief, Endangered Species Division, Office of Protected Resources,National Marine Fisheries Service.

[FR Doc. E6-13465 Filed 8-15-06; 8:45 am]

BILLING CODE 3510-22-S